ENVIRONMENTAL PROTECTION AGENCY

40 CFR Part 52

[EPA-R04-OAR-2010-0017-201014(a) & EPA-R04-OAR-2010-0018-201001(a); FRL-9495-7]

Approval and Promulgation of Air Quality Implementation Plans: South Carolina; Negative Declarations for Groups I, II, III and IV Control Techniques Guidelines; and Reasonably Available Control Technology

AGENCY: Environmental Protection Agency (EPA).

ACTION: Direct final rule.

SUMMARY: EPA is taking direct final action to approve several State Implementation Plan (SIP) revisions submitted by the South Carolina Department of Health and Environmental Control (SC DHEC). These revisions establish reasonably available control technology (RACT) requirements for the three major sources located in the portion of York County, South Carolina that is within the bi-state Charlotte-Gastonia-Rock Hill, North Carolina-South Carolina 1997 8-hour ozone nonattainment area that either emit volatile organic compounds (VOC), nitrogen oxides (NOX) or both. The bi-state Charlotte-Gastonia-Rock Hill 1997 8-hour ozone nonattainment area is hereinafter referred to as the “bi-state Charlotte Area.” In addition, South Carolina's SIP revisions include negative declarations for certain source categories for which EPA has control technique guidelines (CTG), meaning that SC DHEC has concluded that no such sources are located in that portion of the nonattainment area. EPA has evaluated the proposed revisions to South Carolina's SIP, and has concluded that they are consistent with statutory and regulatory requirements and EPA guidance.

DATES: This rule is effective on January 27, 2012 without further notice, unless EPA receives relevant adverse comment by December 28, 2011. If EPA receives such comment, EPA will publish a timely withdrawal in the Federal Register informing the public that this rule will not take effect.

ADDRESSES: Submit your comments, identified by Docket ID No. EPA-R04-OAR-2010-0017 and EPA-R04-OAR-2010-0018, by one of the following methods:

1. http://www.regulations.gov: Follow the on-line instructions for submitting comments.

2. Email: benjamin.lynorae@epa.gov.

3. Fax: (404) 562-9019.

4. Mail: “EPA-R04-OAR-2010-0017” for comments regarding the RACT demonstration and the negative declarations for Groups I and I CTG. “EPA-R04-OAR-2010-0018” for comments regarding the negative declarations for Groups III and IV CTG. Regulatory Development Section, Air Planning Branch, Air, Pesticides and Toxics Management Division, U.S. Environmental Protection Agency, Region 4, 61 Forsyth Street SW., Atlanta, Georgia 30303-8960.

5. Hand Delivery or Courier: Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 to 4:30, excluding Federal holidays.

Instructions: Direct your comments to Docket ID No. “EPA-R04-OAR-2010-0017” and “EPA-R04-OAR-2010-0018.” EPA's policy is that all comments received will be included in the public docket without change and may be made available online at http://www.regulations.gov, including any personal information provided, unless the comment includes information claimed to be Confidential Business Information (CBI) or other information whose disclosure is restricted by statute. Do not submit through http://www.regulations.gov or email, information that you consider to be CBI or otherwise protected. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Zuri Farngalo, Regulatory Development Section, Air Planning Branch, Air, Pesticides and Toxics Management Division, U.S. Environmental Protection Agency, Region 4, 61 Forsyth Street SW., Atlanta, Georgia 30303-8960. Zuri Farngalo may be reached by phone at (404) 562-9152 or by electronic mail address farngalo.zuri@epa.gov.

SUPPLEMENTARY INFORMATION:

Table of Contents

I. Background

II. Analysis of the State's Submittals

III. Final Action

IV. Statutory and Executive Order Reviews

I. Background

On April 30, 2004, EPA designated the bi-state Charlotte Area as a moderate nonattainment area with respect to the 1997 8-hour ozone National Ambient Air Quality Standard (NAAQS). See 69 FR 23858. In addition to six full counties and one partial county in North Carolina, the bi-state Charlotte Area also includes the portion of York County, South Carolina that falls within the Rock Hill-Fort Mill Area Transportation Study Metropolitan Planning Organization Area (the “Rock Hill-Fort Mill Area”).¹ As a result of this designation, North Carolina and South Carolina were required to amend their SIPs for their respective portions of the bi-state Charlotte area to satisfy the requirements of section 182 of the Clean Air Act (CAA or Act). Today's action specifically addresses the Rock Hill-Fort Mill Area in South Carolina. The requirements for the North Carolina portion of the bi-state Charlotte Area will be addressed in separate rulemaking.

¹ Prior to 2004, the Rock Hill-Fort Mill Area was designated as an attainment area for the 1-hour ozone NAAQS, and thus South Carolina was not required to meet CTG requirements for this Area for the 1-hour ozone NAAQS.

A. Statutory Requirements

Section 183(e) of the CAA directs EPA to: (1) List for regulation those categories of products that account for at least 80 percent of the VOC emissions, on a reactivity-adjusted basis, from consumer and commercial products in ozone nonattainment areas; and (2) divide the list of categories to be regulated into four groups. EPA published the initial list in the Federal Register on March 23, 1995 (60 FR 15264), and has revised the list several times. See 71 FR 28320 (May 16, 2006), 70 FR 69759 (November 17, 2005), 64 FR 13422 (March 18, 1999), 63 FR 48792 (September 11, 1998). As authorized by CAA section 183(e)(3)(C), EPA chose to issue Control Technique Guidelines (CTGs) in lieu of regulations for each listed product category. See 73 FR 58481 (October 7, 2008) (Group IV CTG); 72 FR 57215 (October 9, 2007) (Group III CTG); and 71 FR 58745 (October 5, 2006) (Group II CTG).

The primary purpose of the CTGs is to satisfy the requirement in CAA section 182(b)(2) that states adopt RACT rules for all areas designated nonattainment for ozone and classified as moderate or above. The three parts to the section 182(b)(2) RACT requirement are: (1) RACT for sources covered by an existing CTG (i.e., a CTG issues prior to enactment of the 1990 amendments to the CAA); (2) RACT for sources covered by a post-enactment CTG; and (3) all major sources not covered by a CTG (i.e., non-CTG sources).

A CTG is a guidance document issued by EPA which, in combination with CAA section 182(b)(2), triggers a responsibility for states to submit RACT rules for stationary sources of VOC that are covered by the CTG as part of their SIPs. EPA defines RACT as “the lowest emission limit that a particular source is capable of meeting by the application of control technology that is reasonably available considering technological and economic feasibility.” 44 FR 53761 (September 17, 1979). Each CTG includes a “presumptive norm” or “presumptive RACT” that EPA believes satisfies the definition of RACT.

If a state submits a RACT rule that is consistent with the presumptive RACT, the state does not need to submit additional support to demonstrate that the rule meets the CAA's RACT requirement. However, if the state decides to submit an alternative emission limit or level of control for a source or source category for which there is a presumptive RACT, the state must submit independent documentation as to why the rule meets the statutory RACT requirement.

Section 182(b)(2) of the CAA addresses moderate and above areas for the 1-hour ozone standard. Further clarification of the RACT requirements for areas classified as moderate or above for the 1997 8-hour ozone NAAQS is provided in EPA's regulations. Specifically, 40 CFR 51.912, entitled “What requirements apply for reasonably available control technology (RACT) and reasonably available control measures (RACM) under the 8-hour NAAQS?” provides the pertinent RACT requirements for areas classified as moderate or above for the 1997 8-hour ozone NAAQS, stating:

(1) For each area subject to subpart 2 in accordance with 51.903 of this part and classified moderate or higher, the State shall submit a SIP revision that meets the nitrogen oxides (NOX) and VOC RACT requirements in sections 182(b)(2) and 182(f) of the Act.

(2) The State shall submit the RACT SIP for each area no later than 27 months after designation for the 8-hour ozone NAAQS, except that for a State subject to the requirements of the Clean Air Interstate Rule, the State shall submit NOX RACT SIPs for electrical generating units (EGUs) no later than the date by which the areas' attainment demonstration is due (prior to any reclassification under section 181(b)(3)) for the 8-hour ozone national ambient air quality standard, or July 9, 2007, whichever comes later.

(3) The State shall provide for implementation of RACT as expeditiously as practicable but no later than the first ozone season or portion thereof which occurs 30 months after the RACT SIP is due.

The CTGs established by EPA are guidance to the states and provide recommendations only. A state can develop its own strategy for what constitutes RACT for the various CTG categories, and EPA will review that strategy in the context of the SIP process and determine whether it meets the RACT requirements of the CAA and its implementing regulations. If no major sources of VOC or NOX emissions (which should be considered separately) in a particular source category exist in an applicable nonattainment area, a state may submit a negative declaration for that category.

B. Regulatory Schedule for Implementing CTGs

CTGs that were established in 1978 ultimately were required to be adopted by the States by 1990 (see schedule below for details). CAA Section 182(b)(2) provides that a CTG issued after 1990 must specify the date by which a state must submit a SIP revision in response to the CTG. States were required to have the pre-1990 CAA CTG categories and post-1990 CAA CTG categories for applicable areas addressed in their SIPs according to the following schedule:

Group | Federal Register published | SIP due
I | Pre-CAA CTG As of January 1978 the first 15 CTG categories were established. Ten additional CTG were issued in 1978 (1 of those (vegetable oil) was rescinded) | Pre-CAA Amendment CTG The first 25 CTG categories were due to be adopted by the states by 1980. EPA initially approved most of these rules into the state SIPs. Subsequently, EPA reviewed these state rules to see if they were technically adequate and if they met national standards for national consistency. Based on this review, EPA issued the RACT fix-ups in 1987 (see general preamble (57 FR 13498, April 16, 1992)). In 1988, EPA published a technical document to address technical inadequacies found in these state adopted rules and to address minimum standards of national consistency. States were required to adopt revised rules by 1990. Congress established CTG statutory requirements in the 1990 CAA. Outstanding CTG requirements were due in 1992 (CAA Section 182(b)(2)(C).).
| Post-CAA CTG The group of CTG established in 60 FR 15264, March 23, 1995, were broken into subsets called “Group I, II, III and IV” (some of these CTG are updates of previously established CTG)) | September 15, 2006 (40 CFR 51.912, RACT SIPs due for the 1997 8-hour ozone NAAQS).
II | 71 FR 58745, October 5, 2006 | October 5, 2007.
III | 72 FR 57215, October 9, 2007 | October 9, 2008.
IV | 73 FR 58481, October 7, 2008 | October 7, 2009.

II. Analysis of the State's Submittals

Following the April 2004 designation of the bi-state Charlotte Area as a moderate ozone nonattainment area, South Carolina had until June 15, 2007, to submit an attainment demonstration, RACT submission (addressing the applicable CTG), and a reasonable further progress plan for the Rock Hill-Fort Mill Area portion of the nonattainment area. Subsequently, South Carolina was required to provide SIP revisions to address Group II CTG requirements in the Rock Hill-Fort Mill Area by October 5, 2007, and to address Group III and Group IV CTG requirements by October 9, 2008, and October 7, 2009, respectively.

South Carolina provided SIP revisions addressing Groups I and II CTG, on August 31, 2007. Subsequent to South Carolina's August 31, 2007, SIP revision, South Carolina provided SIP revisions to address Group III CTG on February 23, 2009, and Group IV CTG on July 9, 2009, for the Rock Hill Fort-Mill Area. Today's action relates to South Carolina's SIP revisions for the Rock Hill-Fort Mill Area regarding Groups, I, II, III and IV CTG requirements, and South Carolina's RACT demonstration for major non-CTG sources in the Rock Hill-Fort Mill Area.

As part of its analysis to support the negative declarations for Groups I, II, III and IV CTG, South Carolina reviewed its permits files and emissions inventory information. After this review, South Carolina determined that there are no stationary sources or emitting facilities located in Rock Hill-Fort Mill Area that are subject to Groups I, II, III and IV CTG. In accordance with CAA requirements, South Carolina prepared SIP revisions with these negative declarations and provided the public with an opportunity to review and provide comment regarding South Carolina's analyses. EPA has reviewed South Carolina's SIP revisions in support of the negative declarations for Groups I, II, III and IV CTG, and has concluded that the Rock Hill-Fort Mill Area in York County, South Carolina has met all the statutory and regulatory requirements for making a negative declaration regarding Groups I, II, III and IV CTG. Further, EPA has determined that South Carolina's August 31, 2007, February 23, 2009, and July 7, 2009, SIP revisions meet the applicable requirements of the CAA and EPA regulations.

With regard to RACT for non-CTG sources, South Carolina identified three major non-CTG sources within the Rock Hill-Fort Mill Area subject to RACT requirements. The three sources are Bowater, Inc., Cytec Carbon Fibers, LLC, and Georgia Pacific Wood Products, LLC. South Carolina determined what constitutes RACT for these facilities using the top-down process used for prevention of significant deterioration and nonattainment new source review. The top-down process provides that all available control technologies be ranked in descending order of control effectiveness. The most stringent technology is analyzed based on the following criteria: Technical considerations, along with energy, environmental, and economic impact. After this analysis is complete a determination is made as to whether the technology is achievable. The most stringent technology may be eliminated in this fashion and then the next most stringent alternative is considered, and so on.

A report submitted by the three facilities concluded that emission control devices would not be economically feasible, and thus, that RACT for these facilities should consist only of work practice requirements. SC DHEC evaluated the RACT analyses submitted by the three facilities which are further discussed below.

Bowater Coated Paper Division (Bowater) produces bleached pulp and paper products and is a major source for both NOX and VOC. There are fifteen types of affected sources at the facility. These sources are subject to federal regulations that already require strict NOX and VOC control. Many Bowater sources are currently meeting other federal requirements and these types of controls meet RACT for these units. Bowater has various NOX sources. The 4110 Paper Mill-Coating unit requires Best Available Control Technology (BACT) standards and BACT meets RACT for this unit. Number 5105 No. 1 Recover Furnace and Number 2723 No. 2 Lime Kiln require Lowest Achievable Emissions Rate (LAER) standards and for these units LAER meets RACT. The RACT analysis determined that the remaining NOX sources either meet NOX SIP Call Control or additional controls are not feasible. All of the Bowater VOCs are Hazardous Air Pollutants (HAPs.) For the VOC units either the Maximum Available Control Technology (MACT) standards satisfy RACT or the RACT analysis for those units shows that additional controls are not feasible. SC DHEC concluded in its evaluation of Bowater's RACT analysis for each of the units that either the existing MACT standard for the affected unit was adequate or that the remaining technically feasible emission control devices would not be economically feasible to apply at the facility. SC DHEC noted that in general, good combustion results in low VOC emissions. Furthermore, SC DHEC noted that proper operation and/or good combustion practices are the only practical control techniques for biomass combustion sources identified in the RACT/BACT/LAER Clearinghouse. Thus, SC DHEC concluded that RACT for this facility will consist of work practice requirements. See Appendix R of the South Carolina RACT submittal for details of the RACT assessment including technology restrictions.

Cytec Carbon Fibers LLC (Cytec) is a title V facility that operates a carbon fiber manufacturing process and is a major source for NOX. Therefore, SC DHEC completed a RACT analysis for their NOX sources. Cytec is not a major source for VOC so a VOC RACT determination was not performed for this facility. Most of Cytec's NOX emissions come from the conversion of the raw material into carbon fibers. A RACT analysis was done for their three oxidation ovens, the pre-carbonization (pre-carb) oven burner, and the carbonization ovens with the associated thermal oxidizer. SC DHEC has concluded there are no technically and economically feasible add-on control options for NOX emissions reduction. However, Cytec's operating permit will include a work practice standard for reduction of NOX emissions during product changes. Cytec estimates that this work practice could lower actual annual NOX emissions. SC DHEC concluded that this fully meets RACT. See Appendix R of the South Carolina RACT submittal for details of the RACT assessment including technology restrictions.

Georgia Pacific—Catawba Hardboard Plant is a major source for VOC but not for NOX. Therefore, SC DHEC completed a RACT analysis for VOC emissions from the facility from the cooker, dryers, and press equipment at the plant. All but 3 of the VOCs emitted from the plant are HAP VOCs. The non-HAP VOCs are Hexanal (1.4184 tons per year (tpy)), CFC-11 (0.0005 tpy), and Methyl Ethyl Ketone (0.0825 tpy). For GA Pacific, the RACT analysis determined that the only feasible control options (before determining economic feasibility) are regenerative thermal oxidizer (RTO), regenerative catalytic oxidizer (RCO), thermal catalytic oxidizer (TCO) and Biofilter. The RACT analysis went on to show that it would cost $8 million to install RTO, RCO or TCO and would cost $3.5 million annually to operate. These technologies have a cost effectiveness of $14,553 per ton. The RACT analysis also showed that it would cost $5 million to install the Biofilter technology and cost $700,000 to operate annually with a cost effectiveness of $5,483 per ton. The analysis concluded that it is not economically feasible to apply add-on controls to these units. Furthermore, SC DHEC noted that these units are already subject to the MACT requirements set forth at the 40 CFR part 63, subpart DDD. South Carolina also stated in its evaluation that Georgia Pacific Wood Products LLC, will comply with MACT requirements set forth at 40 CFR 63, Subpart DDDD. See Appendix R of the South Carolina RACT submittal for details of the RACT assessment including technology restrictions.

III. Final Action

Pursuant to section 110 of the CAA, EPA is approving the revision to South Carolina's SIP revisions addressing negative declarations for applicability of Groups I, II, III and IV CTG for the Rock Hill-Fort Mill Area; and concerning the RACT requirements related to the 1997 8-hour ozone NAAQS for the Rock Hill-Fort Mill Area which is the portion of York County, South Carolina that is included in the bi-state Charlotte-Gastonia-Rock Hill 1997 8-hour ozone nonattainment area. EPA has evaluated South Carolina's August 31, 2007, February 23, 2009, and July 9, 2009, SIP revisions, and has determined that they meet the applicable requirements of the CAA and EPA regulations, and are consistent with EPA policy for negative declarations for Groups I, II, III and IV CTG, and for RACT.

On March 12, 2008, EPA issued a revised ozone NAAQS. See 73 FR 16436. EPA subsequently announced a reconsideration of the 2008 NAAQS, and proposed new 8-hour ozone NAAQS in January 2010. See 75 FR 2938. In September 2011, EPA withdrew the proposed reconsidered NAAQS and began implementation of the 2008 NAAQS. The current action, however, is being taken to address requirements under the 1997 ozone NAAQS. Requirements for the bi-state Charlotte Area under the 2008 NAAQS will be addressed in the future.

EPA is publishing this rule without prior proposal because the Agency views this as a non-controversial amendment and anticipates no adverse comments. However, in the proposed rules section of this Federal Register publication, EPA is publishing a separate document that will serve as the proposal to approve the SIP revision should adverse comment be filed. This rule will be effective on January 27, 2012 without further notice unless the Agency receives adverse comment by December 28, 2011. If EPA receives such comments, then EPA will publish a document withdrawing the final rule and informing the public that the rule will not take effect. All public comments received will then be addressed in a subsequent final rule based on the proposed rule. EPA will not institute a second comment period on this action. Any parties interested in commenting must do so at this time. If no such comments are received, the public is advised this rule will be effective on January 27, 2012 and no further action will be taken on the proposed rule.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this 1997 8-hour ozone RACT SIP direct final approval for the South Carolina portion of the bi-state Charlotte Area does not have tribal implications as specified by Executive Order 13175 (65 FR 67,249, November 9, 2000), because the determination does not have substantial direct effects on an Indian Tribe. The Catawba Indian Nation Reservation is located within the South Carolina portion of the bi-state Charlotte nonattainment area. Generally SIPs do not apply in Indian country throughout the United States. However, for purposes of the Catawba Indian Nation Reservation in Rock Hill, the South Carolina SIP does apply within the Reservation. Pursuant to the Catawba Indian Claims Settlement Act, S.C. Code Ann. 27-16-120, “all state and local environmental laws and regulations apply to the [Catawba Indian Nation] and Reservation and are fully enforceable by all relevant state and local agencies and authorities.” Pursuant to Executive Order 13175 and the EPA Policy on Consultation and Coordination with Indian Tribes, in a letter dated October 13, 2011, EPA extended the opportunity for consultation between EPA and Catawba. Consultation with the Catawba Tribe began on October 14, 2011, and ended on October 31, 2011. The views and concerns raised by the Catawba Indian Nation during consultation have been taken into account in this direct final rule. Furthermore, EPA notes today's action will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 27, 2012. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Intergovernmental relations, Incorporation by reference, Ozone, Nitrogen Dioxides, Reporting and recordkeeping requirements, Volatile organic compounds.

Dated: November 8, 2011.
A. Stanley Meiburg,
Acting Regional Administrator, Region 4.

40 CFR part 52 is amended as follows:

PART 52—[AMENDED]

1. The authority citation for part 52 continues to read as follows:

Authority: 42 U.S.C. 7401 et seq.

Subpart PP—South Carolina

2. Section 52.2120(e) is amended by adding new entries at the end of the table for “Applicability of Reasonably Available Control Technology for the Portion of York County, South Carolina,” “Negative Declaration for Applicability of Groups I Control Techniques Guidelines for York County, South Carolina,” “Negative Declaration for Applicability of Group II Control Techniques Guidelines for York County, South Carolina,” “Negative Declaration for Applicability of Groups III Control Techniques Guidelines for York County, South Carolina,” and “Negative Declaration for Applicability of Group IV Control Techniques Guidelines for York County, South Carolina” to read as follows:

§ 52.2120 Identification of plan.

* * * * *

(e) * * *

EPA-Approved South Carolina Non-Regulatory Provisions
Provision | State effective date | EPA approval date | Explanation
* * * * * * *
Applicability of Reasonably Available Control Technology for the Portion of York County, South Carolina | 8/31/2007 | 11/28/11 [Insert citation of publication] | Demonstration for Bowater Coated Paper Division; for Cytec Carbon Fibers; and for Georgia-Pacific—Catawba Hardboard Plant.
Negative Declaration for Applicability of Groups I Control Techniques Guidelines for York County, South Carolina | 8/31/2007 | 11/28/11 [Insert citation of publication] | Applicable to the 1997 8-hour Ozone boundary in York County only (Rock Hill-Fort Mill Area Transportation Study Metropolitan Planning Organization Area).
Negative Declaration for Applicability of Group II Control Techniques Guidelines for York County, South Carolina | 8/31/2007 | 11/28/11 [Insert citation of publication] | Applicable to the 1997 8-hour Ozone boundary in York County only (Rock Hill-Fort Mill Area Transportation Study Metropolitan Planning Organization Area).
Negative Declaration for Applicability of Group III Control Techniques Guidelines for York County, South Carolina | 2/23/2009 | 11/28/11 [Insert citation of publication] | Applicable to the 1997 8-hour Ozone boundary in York County only (Rock Hill-Fort Mill Area Transportation Study Metropolitan Planning Organization Area).
Negative Declaration for Applicability of Group IV Control Techniques Guidelines for York County, South Carolina | 7/7/2009 | 11/28/11 [Insert citation of publication] | Applicable to the 1997 8-hour Ozone boundary in York County only (Rock Hill-Fort Mill Area Transportation Study Metropolitan Planning Organization Area).

[FR Doc. 2011-30303 Filed 11-25-11; 8:45 am]

BILLING CODE 6560-50-P